NATIONAL EDUCATION GOALS PANEL

Meeting

AGENCY: National Education Goals Panel.

ACTION: Notice of Meeting.

SUMMARY: This notice sets forth the date and location of a forthcoming meeting of the National Education Goals Panel. This notice also describes the functions of the Panel.

DATE AND TIME: Saturday, February 26, 2000 from 9:00 a.m. to 11:00 a.m.

ADDRESSES: National Press Club, 529 14th Street, NW, HOLEMAN LOUNGE, Washington, DC 2005.

FOR FURTHER INFORMATION CONTACT: Ken Nelson, Executive Director, 1255 22nd Street, NW, Suite 502, Washington, DC 20037. Telephone: (202) 724-0015.

SUMMARY: The National Education Goals Panel was established to monitor, measure and report state and national progress toward achieving the eight National Education Goals, and report to the states and the Nation on that progress.

The meeting is open to the public. Agenda items will include: A Panel discussion on data and reporting issues with presentations given by Cynthia D. Price, Associate Director of Analysis and Reporting, NEGP, on background of data issues; Gary Philips, Acting Commissioner of the National Center for Education Statistics (NCES), on the perspective of NCES; and Mark Musick, Chair and President, respectively, of the National Assessment Board (NAGB) and the Southern Regional Education Board (SREB), on the perspectives of NAGB and SREB; as well as an action to establish a Data and Reporting Task Force.

Also included on the agenda will be the passing of the gavel from Governor Paul E. Patton (D-KY), NEGP Chair, 1999 to Governor Tommy G. Thompson, (R-WI), NEGP Chair, 2000. At that time Governor Thompson will announce the Panel's initiatives for the year 2000.

Dated: February 9, 2000.
Ken Nelson,
Executive Director, National Education Goals Panel

[FR Doc. 00-3425 Filed 2-14-00; 8:45 am]

BILLING CODE 4010-01-M